INTERNATIONAL TRADE COMMISSION

[Investigation No. 332-586]

Foreign Censorship Part 2: Trade and Economic Effects on U.S. Businesses; Submission of Questionnaire and Information Collection Plan for Office of Management and Budget Review

AGENCY: United States International Trade Commission.

ACTION: Notice of submission of request for approval of a questionnaire and information collection to the Office of Management and Budget.

SUMMARY: The information requested by the questionnaire is for use by the Commission in connection with investigation no. 332-586, Foreign Censorship Part 2: Trade and Economic Effects on U.S. Businesses.

ADDRESSES: All Commission offices are located in the U.S. International Trade Commission Building, 500 E Street SW, Washington, DC. Due to the COVID-19 pandemic, the Commission's building is currently closed to the public. Once the building reopens, persons with mobility impairments who will need special assistance in gaining access to the Commission should contact the Office of the Secretary at 202-205-2000.

FOR FURTHER INFORMATION CONTACT: The project leaders for this investigation are Ricky Ubee, Shova KC, and George Serletis. The Commission is currently unable to accept paper correspondence for this investigation. Please direct all questions and comments about this investigation electronically to the project leaders via email at foreign.censorship@usitc.gov or by phone at 202-780-1638.

Comments about the proposal should be provided to the Office of Management and Budget, Office of Information and Regulatory Affairs through the Information Collection Review Dashboard at https://www.reginfo.gov. All comments should be specific, indicating which part of the questionnaire is objectionable, describing the concern in detail, and including specific suggested revisions or language changes. Copies of any comments should be provided electronically to the Commission's survey team via an email to foreign.censorship@usitc.gov.

The public record for this investigation may be viewed on the Commission's electronic docket (EDIS) at https://edis.usitc.gov. General information concerning the Commission may be obtained by accessing its internet address (https://www.usitc.gov). Hearing-impaired individuals are advised that information on this matter can be obtained by contacting the TDD terminal on 202-205-1810.

SUPPLEMENTARY INFORMATION: The information requested by the questionnaire is for use by the Commission in connection with Investigation No. 332-586, Foreign Censorship Part 2: Trade and Economic Effects on U.S. Businesses, instituted under the authority of section 332(g) of the Tariff Act of 1930 (19 U.S.C. 1332(g)). This investigation and report were requested by the Committee on Finance (Committee) of the U.S. Senate in a letter dated April 7, 2021 (revised from a request received January 4, 2021). This investigation was initiated on May 6, 2021, and notice was published on May 12, 2021 (86 FR 26064). The Committee's request includes a component that requires the use of survey data to provide an analysis of the trade and economic effects of foreign censorship policies and practices on affected businesses in the United States and their global operations. This questionnaire is therefore necessary to analyze foreign censorships impacts on (1) employment, (2) direct costs to businesses (e.g., compliance and entry costs), (3) foregone revenue and sales, (4) self-censorship, and (5) other effects the Commission considers relevant to respond to the Committee's request. The Commission is scheduled to deliver its report to the Committee by July 5, 2022.

The Commission intends to submit the following draft information collection plan to OMB:

(1) Number of forms submitted: 1.

(2) Title of form: Foreign Censorship Questionnaire.

(3) Type of request: New.

(4) Frequency of use: Industry questionnaire, single data gathering, scheduled for 2021.

(5) Description of respondents: U.S. businesses operating in China.

(6) Estimated number of questionnaire requests to be mailed: 3,790.

(7) Estimated total number of hours to complete the questionnaire per respondent: 15 hours.

(8) Information obtained from the questionnaire that qualifies as confidential business information will be so treated by the Commission and not disclosed in a manner that would reveal the individual operations of a business.

Copies of the draft questionnaire and other supplementary documents may be downloaded from the USITC website at https://www.usitc.gov/foreigncensorship.

By order of the Commission.
Issued: August 18, 2021.
Lisa Barton,
Secretary to the Commission.

[FR Doc. 2021-18131 Filed 8-20-21; 8:45 am]

BILLING CODE 7020-02-P